DEPARTMENT OF TRANSPORTATION

Federal Motor Carrier Safety Administration

[Docket No. FMCSA-2022-0148]

Commercial Driver's License: National School Transportation Association Application for Renewal of Exemption

AGENCY: Federal Motor Carrier Safety Administration (FMCSA), Department of Transportation (DOT).

ACTION: Notice of final disposition; granting of renewal of exemption.

SUMMARY: FMCSA announces its final decision to renew the exemption granted to the National School Transportation Association (NSTA) for a period of two years to permit all commercial driver's license (CDL) applicants seeking a school bus endorsement to forgo the engine compartment portion of the pre-trip vehicle inspection skills testing requirement, known informally as the “under-the-hood” testing requirement. Drivers issued CDLs pursuant to the requested exemption are restricted to intrastate operation of school buses only.

DATES: The exemption is effective for the period of November 28, 2024, through November 28, 2026.

FOR FURTHER INFORMATION CONTACT: Mr. Richard Clemente, FMCSA Driver and Carrier Operations Division; Office of Carrier, Driver and Vehicle Safety Standards; 202-366-2722; MCPSD@dot.gov. If you have questions on viewing or submitting material to the docket, contact Dockets Operations at (202) 366-9826.

SUPPLEMENTARY INFORMATION:

I. Public Participation Viewing Comments and Documents

To view comments, go to www.regulations.gov, insert the docket number “FMCSA-2022-0148” in the keyword box, and click “Search.” Next, sort the results by “Posted (Newer-Older),” choose the first notice listed, and click “Browse Comments.”

To view documents mentioned in this notice as being available in the docket, go to www.regulations.gov, insert the docket number “FMCSA-2022-0148” in the keyword box, click “Search,” and chose the document to review.

If you do not have access to the internet, you may view the docket online by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations. FMCSA must publish a notice of each exemption request in the Federal Register (49 CFR 381.315(a)). The Agency must provide the public an opportunity to inspect the information relevant to the application, including the applicant's safety analyses. The Agency must provide an opportunity for public comment on the request.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision(s) from which the applicant will be exempt, the effective period, and all terms and conditions of the exemption (49 CFR 381.315(c)(1)). If the exemption is denied, the notice will explain the reasons for the denial (49 CFR 381.315(c)(2)). The exemption may be renewed (49 CFR 381.300(b)).

III. Background

Current Regulatory Requirements

Under 49 CFR 383.113(a), CDL applicants are required to possess basic pre-trip vehicle inspection skills for the vehicle class that the applicant operates or expects to operate. For all test vehicles, applicants must be able to identify each safety-related part on the vehicle and explain what needs to be inspected to ensure a safe operating condition of each part, including the engine compartment.

IV. Application for Renewal of Exemption

The renewal application for exemption from NSTA was described in detail in a Federal Register notice published on May 30, 2024 (89 FR 46986) and will not be repeated here as the facts have not changed.

V. Public Comments

The Agency received 75 comments; 64 supported the exemption, including 12 from individuals. Six commenters opposed the exemption, including three from individuals. Five others took no position either for or against the request.¹ Various school bus companies and contractors and industry associations including NSTA, American Bus Association (ABA), Chicago Public Schools, Pennsylvania School Bus Association, Wisconsin School Bus Association, First Student, and individuals supported the exemption renewal. Common themes of commenters in support of granting the exemption renewal included the ongoing school bus driver shortage, the frequent lack of a need for school bus drivers to make under-the-hood repairs, and the eventual obsolescence of under-the-hood testing as the industry transitions to electric school buses.

¹ FMCSA received verbal comments from two States during a CDL Bi-Monthly Roundtable Meeting held on October 1, 2024. These comments were made long after the comment period closed on July 1, 2024, were raised in an entirely different context, and did not raise new substantive issues. Accordingly, FMCSA did not consider them in its decision. A summary of the comments is nevertheless available in the docket to this notice.

B.R. Williams, Inc., a school bus contractor, commented, “As you know, a national school bus driver shortage has been a prevalent problem of the student transportation system, and the effects of the Covid-19 pandemic only served to increase this shortage in many areas. The pronounced shortage of school bus drivers, and more importantly school bus driver candidates, have had a great impact on the ability of our company to serve the community. We believe that one impediment to qualifying and licensing school bus driver candidates is the Under the Hood testing requirements for school bus driver candidates.”

The Washington State Student Transportation Coalition commented, “[o]ur bus drivers are not allowed to perform any on-road repairs or maintenance to their vehicle in the event of a break down. The bus driver must call dispatch with the problem, and typically a replacement bus is sent to their location to transport students from the original bus . . . Safety for students in this situation is the priority for our drivers. They must stay with the students and let those with training address the mechanical issues. To this end, the need for Under the Hood knowledge is extremely limited and only serves as a deterrent for potential school bus drivers. Removing this outdated requirement will allow us to focus our drivers on what is most important, keeping students safe.”

The Wisconsin School Bus Association added, “given the current transition to electric school buses, the Under the Hood testing will eventually become obsolete entirely . . . Bus manufacturers warn against untrained laypersons going under the hood to inspect or repair a vehicle. Requiring drivers to do so is fraught with danger, and ultimately becomes a liability concern for operators and testing facilities. Wisconsin was one of the first states to adopt this exemption and many members are using it when existing drivers renew their license. The exemption has allowed employers to maintain the driver pool and discontinuing it would be a large burden on employers, including potentially losing those drivers.”

James Lynch, an individual commenter who supported granting the exemption renewal, stated, “We should all consider potential options that can assist us with overcoming the bus driver shortage that has contributed to a substantial increase in lost instructional time across all schools. This waiver does not pose any concerns with safety standards and is a practical option that each State would have the discretion to implement.”

The prevalent themes of comments opposed to the exemption included that the exemption may pose an increased risk to safety, it is costly for States to change the current testing process, and drivers who lack the strength to lift the hood may not be able to perform other essential functions, such as assisting passengers in an emergency evacuation.

AWM Associates, LLC commented, “FMCSA must recognize there are safety issues impacting the operation of school buses and the issues must be addressed to reduce the high turnover rate driving the renewal for the exception. NSTA's request should be denied as the request places school children and drivers in [h]arm's way.” AWM Associates, LLC further asked, “Has NSTA conducted any research to identify the root cause of high turnover rates and taken corrective actions to repair the issues that cause drivers to quit as soon as they start?” Jennifer Brunette stated: “In our company it would handicap our drivers from making extra money due to the restriction that is placed on their license. They are class B, CDL drivers and should be held to the same standards of every CDL driver.”

The National Association of State Directors of Pupil Transportation Services (NASDPTS) commented that it was “concerned by the cost states would incur to change the current testing process. Licensing and testing agencies would have to update their systems, all trainers and third-party testers would need to be trained on the waiver and law enforcement would need to be trained on the additional license. NASDPTS urges FMCSA to consider the burdensome costs, both financial and in work hours, to states before considering such a requirement.”

NASDPTS further commented: “NASDPTS continues to believe that the unintended consequences of this waiver have result[ed] in an increased risk to safety. Many public-school transportation fleets rely upon school bus drivers to perform pre-trip inspections. In addition, many rural school bus drivers take their buses home each night and therefore must perform the pre-trip inspections themselves.” NASDPTS also noted “there is also a shortage of school bus maintenance personnel facing the school transportation industry and to not ensure all school bus drivers are capable of performing the inspection themselves could leave a district shorthanded or in the position of compromising safety . . . NASDPTS believes that if a driver is capable of adequately ensuring safety in an emergency, then that same driver is capable of inspecting under the hood of a vehicle.” NASDPTS added that it “has great unease with limiting drivers to intrastate only operations as state lines are not always easily avoided in school transportation. In the State of Vermont, for example, school bus drivers often cross state lines even in home-to-school transportation as in doing so can result in shorter route distances and times.”

The American Association of Motor Vehicle Administrators (AAMVA) did not oppose the exemption but had technical concerns and stated, “[t]esting experience tells us that of all the applicable testing requirements, being able to identify the under the hood components is not one of the more taxing requirements on applicants. AAMVA also notes that to date, not many jurisdictions have utilized the available exemption, and we remain unsure that this specific relief will amount to a dramatic increase in the number of eligible school bus driver applicants.” AAMVA also commented that the under-the-hood testing component “may prevent safety critical issues, like fire prevention or other hazard mitigation prior to the onboarding of children.” AAMVA also noted that “the school bus endorsement, in conjunction with a passenger endorsement, may be transferred to general passenger carrying duties or other commercial vehicle operations that have nothing to do with the school bus endorsement—but the exemption may provide individual testing relief.” Finally, AAMVA commented that “there is no way for licensing agencies to currently differentiate the record of someone who has been granted relief from this specific exemption from those that have not. Meaning, that if someone is initially granted the exemption and moves to another jurisdiction, the new jurisdiction of record may not know that the applicant was previously subject to an exemption that may not conform with their own testing requirements.”

The National Association of Pupil Transportation (NAPT) did not oppose the exemption but commented, “[i]t is our belief that such a long-term extension needs to be based in evidence that the exemption is working effectively and that the continued exemption would not compromise safety for the children who ride our yellow school buses.” The NAPT asked if FMCSA has “data that demonstrates that the `under the hood' component has led to any of the following (1) candidates refusing to complete the test; (2) trainees deciding not to continue because of the test; or (3) CDL candidates failing the test because of the component?” The NAPT also asked if FMCSA has data demonstrating that the exemption has increased the numbers of school bus drivers, about the experiences of States that have implemented the exemption, and why many States have not implemented the exemption. NAPT also suggested consideration of information on the extent to which potential drivers have abandoned their pursuit of a CDL because of other ELDT requirements that might be unrelated to the characteristics of school bus driving.

VI. FMCSA Safety Analysis and Agency Decision

FMCSA has evaluated NSTA's application and the public comments and grants the exemption renewal request for a two-year period. Due to the limited scope, terms, conditions, and restrictions of the exemption and the existing regulatory requirements that remain in place, FMCSA has determined that the “under-the-hood” exemption will likely achieve a level of safety that is equivalent to the level of safety that would be obtained absent the exemption. The exemption does not apply to the remaining elements of the pre-trip vehicle inspection components of the skills test, as set forth in 49 CFR 383.113(a)(1)(ii-ix). Accordingly, drivers obtaining CDLs under this exemption will have demonstrated the ability to safely operate the special features of a school bus.

Further, because school buses are typically operated for relatively short distances, mechanics or other qualified personnel can readily provide roadside assistance in the event of an engine malfunction. The exemption does not change FMCSA's vehicle maintenance requirements in 49 CFR part 396, including that every motor carrier must systematically inspect, repair, and maintain all vehicles (49 CFR 396.3) and that unsafe operations of a CMV are forbidden (49 CFR 396.7). All State or local school bus inspection maintenance standards continue to apply. In response to concerns about costs, FMCSA notes that use of the exemption is optional for States, as a State may elect to continue to require all CDL applicants to meet the requirements of 49 CFR 383.113(a)(1)(i). As it pertains to bus routes that require crossing state lines, the exemption is expressly limited to intrastate operations and drivers obtaining licenses under the exemption must adhere to that restriction. A driver who was granted a CDL under this exemption simply would not be eligible to drive a school bus on a route that crosses State lines; to drive on such a route would require a CDL without a K restriction granted upon passing the full skills test.

FMCSA believes requiring States to include “school bus only” and K restrictions on CDLs issued under this exemption per 49 CFR 383.153(a)(10)(vii) and (ix) addresses concerns about drivers operating under the exemption moving to a jurisdiction that did not adopt the exemption. The new jurisdiction will become aware of these restrictions when driver applicants surrender their old CDLs, as required by 49 CFR 383.71(c)(4).

FMCSA agrees with comments from AAMVA and NAPT that additional data would be useful to examine the impact of a longer-term exemption. FMCSA therefore requires States report to FMCSA on a monthly basis the names and CDL numbers of drivers who are issued a CDL pursuant to the terms of this exemption.

VII. Exemption Decision

A. Grant of Renewal of Exemption

This exemption covers States for the period beginning at 12:00 a.m. (ET) on November 28, 2024, through 11:59 p.m. on November 28, 2026. Under this exemption, a State may, but is not required to, waive the engine compartment portion of the pre-trip vehicle inspection skills test, set forth in 49 CFR 383.113(a)(1)(i), only for CDL applicants seeking the S and P endorsements, subject to the K restriction limiting their operation to intrastate commerce. States issuing CDLs pursuant to this exemption are not subject to the requirement in 49 CFR 383.133(c)(1) that this portion of the pre-trip vehicle inspection test be administered in accordance with an FMCSA pre-approved examiner information manual.

FMCSA intends to continue to closely monitor the safety impacts of the relief granted under this exemption. As necessary, FMCSA may take action to modify the exemption, including scaling back the regulatory relief provided, or to terminate the exemption sooner, if conditions warrant.

B. Terms and Conditions

States issuing CDLs pursuant to this exemption must abide by the following terms and conditions:

1. The State driver's licensing agency must submit the names and CDL numbers of drivers who are issued a CDL pursuant to the terms of this exemption, as authorized by 49 CFR 383.73(h) and 384.225(e)(2), monthly to MCPSD@dot.gov.

2. The CDL credential must conform to the requirements of 49 CFR part 383, subpart J.

3. When issuing a K-restricted CDL with the S and P endorsements pursuant to this exemption, States must continue to comply with the applicable provisions set forth in 49 CFR 383.73.

4. When issuing a K-restricted CDL with the S and P endorsements pursuant to this exemption, States must place a school bus only restriction on the CDL in accordance with 49 CFR 383.153(a)(10)(ix).

5. States must conduct the remaining pre-trip vehicle inspection components of the skills test for drivers subject to this exemption, as set forth in 49 CFR 383.113(a)(1)(ii-ix).

6. This exemption applies only to the intrastate operation of school buses used to transport pre-primary, primary, or secondary school students from home to school, from school to home, or to and from school-sponsored events, as defined in 49 CFR 383.5.

C. Termination

FMCSA does not believe that drivers issued CDLs under the exemption will experience any deterioration of safety below the level that would be achieved without the exemption. The exemption will be rescinded if: (1) States fail to comply with the terms and conditions of the exemption; (2) the exemption has resulted in a lower level of safety than was maintained before it was granted; or (3) continuation of the exemption would not be consistent with the goals and objectives of 49 U.S.C. 31136(e) and 31315(b).

Vincent G. White,
Deputy Administrator.

[FR Doc. 2024-28098 Filed 11-29-24; 8:45 am]

BILLING CODE 4910-EX-P